DEPARTMENT OF ENERGY

Federal Energy Regulatory Commission

[Project Nos. 271-128]

Entergy Arkansas, Inc.; Notice of Availability of Environmental Assessment

May 10, 2010.

In accordance with the National Environmental Policy Act of 1969 and the Federal Energy Regulatory Commission's (Commission) regulations, 18 CFR part 380 (Order No. 486, 52 FR 47897), the Office of Energy Projects has reviewed an application to delegate authority to Entergy Arkansas, Inc (licensee) for approving excavation and dredging activities at the Carpenter-Remmel Hydroelectric Project (FERC No. 271). An environmental assessment (EA) has been prepared as part of staff's review of the proposal. The project is located on the Ouachita River, in Hot Springs and Garland Counties, Arkansas.

In the application, the licensee proposes a procedure that establishes guidance for removing rock, soil, and silt materials from Lakes Catherine and Hamilton, the project's two reservoirs, without prior Commission approval. The EA contains Commission staff's analysis of the probable environmental impacts of the proposed procedure and concludes that approval of the proposal would not constitute a major federal action significantly affecting the quality of the human environment.

The EA is attached to a Commission order titled “Order Modifying and Approving Dredging and Excavation Permitting Procedure,” which was issued May 4, 2010, and is available for review and reproduction at the Commission's Public Reference Room, located at 888 First Street, NE., Room 2A, Washington, DC 20426. The EA may also be viewed on the Commission's Web site at http://www.ferc.gov using the “elibrary” link. Enter the docket number (P-271) in the docket number field to access the document. For assistance, contact FERC Online Support at FERCOnlineSupport@ferc.gov or toll-free at 1-866-208-3372, or for TTY, (202) 502-8659.

Kimberly D. Bose,
Secretary.

[FR Doc. 2010-11632 Filed 5-14-10; 8:45 am]

BILLING CODE 6717-01-P